DEPARTMENT OF EDUCATION

[CFDA No.: 84.224C]

Office of Special Education and Rehabilitative Services National Institute on Disability and Rehabilitation Research; Notice Inviting Applications for New Awards in Fiscal Years 2000-2001 for the Alternative Financing Program (AFP), and the Alternative Financing Technical Assistance Program (AFTAP), Both Authorized Under Title III of the Assistive Technology Act (ATAct)

Note to Applicants: This notice is a complete application package. Together with the statute authorizing the program and the Education Department General Administrative Regulations (EDGAR), this notice contains information, application forms, and instructions needed to apply for a grant under these competitions.

These programs support the National Education Goal that calls for all Americans to possess the knowledge and skills necessary to compete in a global economy and exercise the rights and responsibilities of citizenship.

The estimated funding levels in this notice do not bind the Department of Education to make awards in any of these categories, or to any specific number of awards or funding levels, unless otherwise specified in statute.

Applicable Regulations: The Education Department General Administrative Regulations (EDGAR), 34 CFR parts 74, 75, 77, 80, 81, 82, 85, and 86 and the Notice of Final Priority published elsewhere in this issue of the Federal Register.

Absolute Priorities: These competitions focus on projects designed to meet the absolute priorities in the notice of final priority for these programs, published elsewhere in this issue of the Federal Register. Under 34 CFR 75.105(c)(3), we consider only applications that meet one of the absolute priorities.

Pre-Application Meeting: Interested parties are invited to participate in a pre-application meeting to discuss the funding priorities for the AFP and the AFTAP and to receive technical assistance through individual consultation and information about the funding priorities. The pre-application meeting will be held on June 16, 2000 either in person or by conference call at the Department of Education, Office of Special Education and Rehabilitative Services, Switzer Building, Room 3065, 330 C St. SW, Washington, DC between 10 a.m. and 12 a.m. NIDRR staff will also be available at this location from 1:30 p.m. to 5 p.m. on that same day to provide technical assistance through individual consultation and information about the funding priorities. For further information or to make arrangements to attend contact Carol Cohen, Switzer Building, room 3420, 400 Maryland Avenue, SW, Washington, DC 20202. Telephone (202) 205-5666. If you use a Telecommunication Device for the Deaf (TDD), you may call (202) 205-4475.

Assistance to Individuals With Disabilities at the Public Meetings

The meeting site is accessible to individuals with disabilities, and a sign language interpreter will be available. If you need an auxiliary aid or service other than a sign language interpreter in order to participate in the meeting (e.g. other interpreting service such as oral, cued speech, or tactile interpreter; assistive listening device; or materials in alternate format), notify the contact person listed in this Notice at least two weeks before the scheduled meeting date. Although we will attempt to meet a request we receive after this date, we may not be able to make available the requested auxiliary aid or service because of insufficient time to arrange it.

Application Notice for Fiscal Year 2000, Alternative Financing Program and Alternative Financing Technical Assistance Program, CFDA No. 84.224C
Funding priority | Deadline for transmittal of applications | Estimated number of awards | Award amount (per year) ¹ ² | Project period (months)
84.224C-1, Alternative Financing Program | July 28, 2000 | 7 | Outlying areas, maximum: $105,000; State Minimum: $500,000; Average: $540,000; Range: $500,000 to $3,800,000 ¹ | 12
84.224C-2, Alternative Financing Technical Assistance Program | July 28, 2000 | 1 | Year 1—200,000; Year 2—300,000 | 24
¹ Note: The total amount available in FY 2000 for the AFP is $3,800,000. The Secretary is required to award a minimum of $500,000 to States and to distribute any remaining funds among those States based on population and density. After award of $500,000 to seven States, the Secretary would have an additional $250,000 (approximately) to distribute among the seven States. If only four applications are approved for funding, the Secretary would distribute all available funds ($3.8 million) to those four applicants. Therefore, applicants are encouraged to apply for (with full matching requirements) a grant award of up to $3.8 million, which is the amount available if only one State applies and receives an award. The Secretary requires that the amount above the minimum of $500,000 shall be separable and clearly identified in the application, budget, and matching materials.
² The Secretary will reject without consideration or evaluation any application that proposes a project funding level that exceeds the stated maximum award amount for fiscal year 2000 (See 34 CFR 75.104(b)).

Program Title: Alternative Financing Program.

CFDA Number: 84.224C-1.

Purpose of Program: The purpose of the AFP is to award grants to States to pay for the Federal share of the cost of the establishment and administration of, or the expansion and administration of, an AFP featuring one or more alternative financing mechanisms to allow individuals with disabilities and their family members, guardians, advocates, and authorized representatives to purchase AT devices and AT services.

Eligible Applicants: Parties eligible to apply for the AFP are States and outlying areas that receive or have received grants under the AT State Grant Program (section 101 of the ATAct).

Matching Requirement: The Federal share of the cost of the Alternative Financing Program must not be more than 50 percent. Therefore, because the minimum Federal share is $500,000 for States, States are required to match at least $500,000. The match must be provided with cash, from State, local, or private sources. The State must match at the exact level requested, $500,000 or greater. The Federal share for an outlying area would be $105,000; requiring a $105,000 match.

Program Title: Alternative Financing Technical Assistance Program.

CFDA Number: 84.224C-2.

Purpose of Program: The purpose of the AFTAP is to award a grant to a public or private agency or organization to provide information and TA to States participating in AFP.

Eligible Applicants: Parties eligible to apply for grants under the AFTAP are public or private agencies and organizations, including institutions of higher education with sufficient documented experience, expertise and capacity to assist States in the development and implementation of the AFPs carried out the ATAct. A State receiving a grant under the ATP would not be eligible for a grant under the AFTAP.

Matching: No match is required.

Selection Criteria: The Secretary uses the following selection criteria to evaluate applications for priorities under both the Alternative Financing Program and the Alternative Financing Technology Assistance Program. (See 34 CFR 75.210). The maximum score for all the criteria is 100 points.

(a) Significance (10 points total). (1) The Secretary considers the significance of the proposed project; and

(2) In determining the significance of the proposed project, the Secretary considers the extent to which the results of the proposed project are to be disseminated in ways that will enable others to use the information or strategies.

(b) Quality of the project design (25 points total). (1) The Secretary considers the quality of the design of the proposed project; and (2) In determining the quality of the design of the proposed project, the Secretary considers the following factors:

(i) The extent to which the goals, objectives, and outcomes to be achieved by the proposed project are clearly specified and measurable (8 points).

(ii) The extent to which the design of the proposed project is appropriate to, and will successfully address, the needs of the target population or other identified needs (8 points).

(iii) The extent to which the proposed project represents an exceptional approach to the priority or priorities established for the competition (6 points).

(iv) The extent to which the proposed project will be coordinated with similar or related efforts, and with other appropriate community, State, and Federal resources (3 points).

(c) Quality of project services (15 points total). (1) The Secretary considers the quality of the services to be provided by the proposed project;

(2) In determining the quality of the services to be provided by the proposed project, the Secretary considers the quality and sufficiency of strategies for ensuring equal access and treatment for eligible proposed project participants who are members of groups that have traditionally been underrepresented based on race, color, national origin, gender, age, or disability (5 points); and

(3) In addition, the Secretary considers the following factors:

(i) The extent to which the services to be provided by the proposed project are appropriate to the needs of the intended recipients or beneficiaries of those services (5 points).

(ii) The extent to which the technical assistance services to be provided by the proposed project involve the use of efficient strategies, including the use of technology, as appropriate, and the leveraging of non-project resources (5 points).

(d) Quality of project personnel (15 points total). (1) The Secretary considers the quality of the personnel who will carry out the proposed project;

(2) In determining the quality of proposed project personnel, the Secretary considers the extent to which the applicant encourages applications for employment from persons who are members of groups that have traditionally been underrepresented based on race, color, national origin, gender, age, or disability (5 points); and

(3) In addition, the Secretary considers the following factors:

(i) The qualifications, including relevant training and experience, of the project director or principal investigator (5 points).

(ii) The qualifications, including relevant training and experience, of key project personnel (5 points).

(e) Adequacy of resources (15 points total). (1) The Secretary considers the adequacy of resources for the proposed project.

(2) In determining the adequacy of resources for the proposed project, the Secretary considers the following factors:

(i) The adequacy of support, including facilities, equipment, supplies, and other resources, from the applicant organization or the lead applicant organization (8 points).

(ii) The extent to which the costs are reasonable in relation to the objectives, design, and potential significance of the proposed project (7 points).

(f) Quality of the management plan (10 points total). (1) The Secretary considers the quality of the management plan for the proposed project.

(2) In determining the quality of the management plan for the proposed project, the Secretary considers the following factors:

(i) The adequacy of the management plan to achieve the objectives of the proposed project on time and within budget, including clearly defined responsibilities, timeliness, and milestones for accomplishing project tasks (5 points).

(ii) The extent to which the time commitments of the project director and principal investigator and other key project personnel are appropriate and adequate to meet the objectives of the proposed project (5 points).

(g) Quality of the project evaluation (10 points total). (1) The Secretary considers the quality of the evaluation to be conducted by the proposed project.

(2) In determining the quality of the evaluation, the Secretary considers the following factors:

(i) The extent to which the methods of evaluation are thorough, feasible, and appropriate to the goals, objectives, and outcomes of the proposed project (5 points).

(ii) The extent to which the methods of evaluation include the use of objective performance measures that are clearly related to the intended outcomes of the project and will produce quantitative and qualitative data to the extent possible (5 points).

Instructions for Application Narrative: The Assistant Secretary strongly recommends the following:

(a) A one-page abstract;

(b) An application narrative (i.e., Part III that addresses the selection criteria that will be used by reviewers in evaluating individual proposals) of no more than 75 pages double-spaced (no more than 3 lines per vertical inch) 8.5 x 11” pages (on one side only) with one inch margins (top, bottom, and sides). The application narrative page limit recommendation does not apply to: Part I—the electronically scannable form; Part II—the budget section (including the narrative budget justification); and Part IV—the assurances and certifications; and

(c) A font no smaller than a 12-point font and an average character density no greater than 14 characters per inch.

Instructions for Transmittal of Applications:

(a) If an applicant wants to apply for a grant, the applicant must—

(1) Mail the original and two copies of the application on or before the deadline date to: U.S. Department of Education, Application Control Center, Attention: (CFDA 84.224C-1 or C-2 and the title), Washington, DC 20202-4725, or

(2) Hand deliver the original and two copies of the application by 4:30 p.m. (Washington, DC time) on or before the deadline date to: U.S. Department of Education, Application Control Center, Attention: (CFDA 84.224C-1 or C-2 and the title), Room #3633, Regional Office Building #3, 7th and D Streets, SW, Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes:

(1) The U.S. Postal Service does not uniformly provide a dated postmark. Before relying on this method, an applicant should check with its local post office.

(2) An applicant wishing to know that the Department has received its application must include with the application a stamped self-addressed postcard containing the CFDA number and title of this program.

(3) The applicant must indicate on the envelope and—if not provided by the Department—in Item 10 of the Application for Federal Assistance (Standard Form 424) the CFDA number—and letter, if any—of the competition under which the application is being submitted.

Application Forms and Instructions

The appendix to this application is divided into four parts. These parts are organized in the same manner that the submitted application should be organized. These parts are as follows:

Part I: Application for Federal Assistance (Standard Form 424 (Rev. 11/12/99)) and instructions.

Part II: Budget Form—Non-Construction Programs (Standard Form 524A) and instructions.

Part III: Application Narrative.

Additional Materials

Estimated Public Reporting Burden.

Assurances—Non-Construction Programs (Standard Form 424B).

Certification Regarding Lobbying, Debarment, Suspension, and Other Responsibility Matters, and Drug-Free Work-Place Requirements (ED Form 80-0013).

Certification Regarding Debarment, Suspension, Ineligibility and Voluntary Exclusion: Lower Tier Covered Transactions (ED Form 80-0014) and instructions.

Note: ED Form GCS-014 is intended for the use of primary participants and should not be transmitted to the Department.

Certification of Eligibility for Federal Assistance in Certain Programs (ED Form 80-0016).

Disclosure of Lobbying Activities (Standard Form LLL (if applicable) and instructions; and Disclosure Lobbying Activities Continuation Sheet (Standard Form LLL-A).

An applicant may submit information on a Photostat copy of the application and budget forms, the assurances, and the certifications. However, the application form, the assurances, and the certifications must each have an original signature. No grant may be awarded unless a completed application form has been received.

For Applications Contact: The Grants and Contracts Service Team (GCST), Department of Education, 400 Maryland Avenue SW., room 3317 Switzer Building, Washington, DC 20202, or call (202) 205-8207. Individuals who use a Telecommunications Device for the Deaf (TDD) may call the TDD number at (202) 205-9860. The preferred method for requesting information is to FAX your request to (202) 205-8717.

Individuals with disabilities may obtain a copy of the application package in an alternate format by contacting the GCST. However, the Department is not able to reproduce in an alternate format the standard forms included in the application package.

For Further Information Contact: Donna Nangle, U.S. Department of Education, 400 Maryland Avenue, SW, room 3414, Switzer Building, Washington, DC 20202-2645. Telephone: (202) 205-5880. Individuals who use a Telecommunications device for the deaf (TDD) may call the TDD number at (202) 205-4475. Internet: Donna_Nangle@ed.gov

Individuals with disabilities may obtain this document in an alternate format (e.g., Braille, large print, audiotape, or computer diskette) on request to the contact person listed in the preceding paragraph.

Electronic Access to This Document

You may review this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html

(Catalog of Federal Domestic Assistance Number 84.224C, Assistive Technology Act Alternative Loan Financing Program)
Program Authority: 29 U.S.C. 3051-3058.
Dated: May 25, 2000.
Judith E. Heumann,
Assistant Secretary for Special Education and Rehabilitative Services.

Appendix—Application Forms and Instructions

Applicants are advised to reproduce and complete the application forms in this Section. Applicants are required to submit an original and two copies of each application as provided in this Section. However, applicants are encouraged to submit an original and seven copies of each application in order to facilitate the peer review process and minimize copying errors.

Frequent Questions

1. Can I Get an Extension of the Due Date?

No. On rare occasions the Department of Education may extend a closing date for all applicants. If that occurs, a notice of the revised due date is published in the Federal Register. However, there are no extensions or exceptions to the due date made for individual applicants.

2. What Should Be Included in the Application?

The application should include a project narrative, vitae of key personnel, and a budget, as well as the Assurances forms included in this package. Vitae of staff or consultants should include the individual's title and role in the proposed project, and other information that is specifically pertinent to this proposed project. The budgets for both the first year and all subsequent project years should be included.

If collaboration with another organization is involved in the proposed activity, the application should include assurances of participation by the other parties, including written agreements or assurances of cooperation. It is not useful to include general letters of support or endorsement in the application.

If the applicant proposes to use unique tests or other measurement instruments that are not widely known in the field, it would be helpful to include the instrument in the application.

Many applications contain voluminous appendices that are not helpful and in many cases cannot even be mailed to the reviewers. It is generally not helpful to include such things as brochures, general capability statements of collaborating organizations, maps, copies of publications, or descriptions of other projects completed by the applicant.

3. What Format Should Be Used for the Application?

NIDRR generally advises applicants that they may organize the application to follow the selection criteria that will be used. The specific review criteria vary according to the specific program, and are contained in this Consolidated Application Package.

4. May I Submit Applications to More Than One NIDRR Program Competition or More Than One Application to a Program?

Yes. You may submit applications to any program for which they are responsive to the program requirements.

5. What Is the Allowable Indirect Cost Rate?

The limits on indirect costs vary according to the program and the type of application. In this case it is limited to 10%.

6. Can Profitmaking Businesses Apply for Grants?

Only States may apply for the AFP and there are specific eligibility requirements for the TA project however, profitmaking entities are eligible to apply for the AFTAP.

7. Can Individuals Apply for Grants?

No. Parties eligible to apply for the AFP are States and outlying areas that receive or have received grants under the AT State Grant Program (section 101 of the ATAct).

8. How Soon After Submitting my Application Can I Find Out if It Will Be Funded?

The time from closing date to grant award date varies from program to program. Generally speaking, NIDRR endeavors to have awards made within five to six months of the closing date. Unsuccessful applicants generally will be notified within that time frame as well. For the purpose of estimating a project start date, the applicant should estimate approximately six months from the closing date, but no later than the following September 30 of the current fiscal year.

9. Can I Contact NIDRR To Find Out if My Application Is Being Funded?

No. When NIDRR is able to release information on the status of grant applications, it will notify applicants by letter. The results of the peer review cannot be released except through this formal notification.

10. If My Application Is Successful, Can I Assume I Will Get the Requested Budget Amount in Subsequent Years?

No. Funding in subsequent years is subject to availability of funds and project performance.

11. Will All Approved Applications Be Funded?

No. It often happens that the peer review panels approve for funding more applications than NIDRR can fund within available resources. Applicants who are approved but not funded are encouraged to consider submitting similar applications in future competitions if such competitions are held. This would depend on subsequent appropriations.

Public reporting burden for these collections of information is estimated to average 30 hours per response, including the time for reviewing instructions, searching existing data sources, gathering and maintaining the data needed, and completing and reviewing the collection of information.

Send comments regarding this burden estimate or any other aspect of these collections of information, including suggestions for reducing this burden, to: the U.S. Department of Education, Information Management and Compliance Division, Washington, DC 20202-4651; and to the Office of Management and Budget, Paperwork Reduction Project 1820-0027, Washington, DC 20503.

Alternative Financing Program and the Alternative Financing Technical Assistance Program (CFDA No. 84.224C).

BILLING CODE 4000-01-U

[FR Doc. 00-13946 Filed 6-2-00; 8:45 am]

BILLING CODE 4000-01-C